DEPARTMENT OF ENERGY

Federal Energy Regulatory Commission

[Docket No. RM16-17-000]

Data Collection for Analytics and Surveillance and Market-Based Rate Purposes; Notice of the Second Technical Workshop on the Data Collection for Analytics and Surveillance and Market-Based Rate Purposes Notice of Proposed Rulemaking

In the Notice of Proposed Rulemaking on Data Collection for Analytics and Surveillance and Market-Based Rate Purposes (NOPR), the Commission proposed to revise the Commission's regulations to collect certain data for analytics and surveillance purposes from market-based rate (MBR) sellers and entities trading virtual products or holding financial transmission rights and to change certain aspects of the substance and format of information submitted for MBR purposes.¹ In the NOPR, the Commission stated that staff will hold technical workshops on the data dictionary and the submittal process.² A technical workshop was held on the draft data dictionary attached to the NOPR on August 11, 2016.³

¹ Data Collection for Analytics and Surveillance and Market-Based Rate Purposes, 156 FERC ¶ 61,045 (2016).

² Id. P 15.

³ “Staff Notes on: Technical Workshop on the Draft Data Dictionary Attached to the Data Collection for Analytics and Surveillance and Market-Based Rate Purposes Notice of Proposed Rulemaking” available at, http://www.ferc.gov/CalendarFiles/20160909154402-staff-notes.pdf.

This notice announces a second technical workshop that will focus on the submittal process. The purpose of this technical workshop is to allow for a dialogue between staff and the public regarding the technical aspects of the submission process. Staff will present case studies drawn from the characteristics of existing entities expected to submit data under the rule. The case studies will include a discussion of (1) the steps the user would follow to submit data to the relational database; (2) the process of data review and validation once the data is received by the Commission; and (3) the notifications a user would receive as the data makes its way through the Commission data validation and receipt process. Staff will also provide a high-level update on proposed technical refinements to the data dictionary based on prior workshop and additional outreach. The agenda for the workshop is attached.

All interested parties are invited to attend. The workshop will be held in Washington, DC on December 7, 2016 from 9:00 a.m. to 1:00 p.m. at FERC headquarters in the Commission Meeting Room, 888 First Street NE., Washington, DC. For those unable to attend in person, access to the workshop sessions will be available by webcast.

Due to the detailed, substantive nature of the subject matter, parties interested in actively participating in the discussion are encouraged to attend in person. All interested parties (whether attending in person or via webcast) are asked to register online at https://www.ferc.gov/whats-new/registration/12-07-16-form.asp. There is no registration fee.

Those who would like to participate in the discussion by telephone during the workshop should send a request for a telephone line to RM16-17.NOPR@ferc.gov by 5:00 p.m. Friday, December 2, 2016, with the subject line: RM16-17 NOPR Workshop Teleconference Request.

Commission workshops are accessible under section 508 of the Rehabilitation Act of 1973. For accessibility accommodations please send an email to accessibility@ferc.gov or call toll free 1-866-208-3372 (voice) or 202-502-8659 (TTY); or send a fax to 202-208-2106 with the required accommodations.

For additional information, please contact David Pierce of FERC's Office of Enforcement at (202) 502-6454 or send an email to RM16-17.NOPR@ferc.gov.

Dated: November 2, 2016.
Nathaniel J. Davis, Sr.,
Deputy Secretary.

[FR Doc. 2016-26994 Filed 11-8-16; 8:45 am]

BILLING CODE 6717-01-P